DEPARTMENT OF COMMERCE

National Oceanic and Atmospheric Administration

[I.D. 071904A]

Caribbean Fishery Management Council; Public Meeting

AGENCY: National Marine Fisheries Service (NMFS), National Oceanic and Atmospheric Administration (NOAA), Commerce.

ACTION: Notice of Public Meetings.

SUMMARY: The Caribbean Fishery Management Council (Council) and its Administrative Committee will hold meetings.

DATES: The meetings will be held on August 17-18, 2004. The Council will convene on Tuesday, August 17, 2004, from 9 a.m. to 5 p.m., and the Administrative Committee will meet from 5:15 p.m. to 6:15 p. m. The Council will reconvene on Wednesday, August 18, 2004, from 9 a.m. to 5 p.m., approximately.

ADDRESSES: The meetings will be held at The Buccaneer Hotel, Estate Shoys, Christinasted, St. Croix, USVI 00824.

FOR FURTHER INFORMATION CONTACT: Caribbean Fishery Management Council, 268 Munoz Rivera Avenue, Suite 1108, San Juan, Puerto Rico 00918-1920; telephone: (787) 766-5926.

SUPPLEMENTARY INFORMATION: The Council will hold its 116th regular public meeting to discuss the items contained in the following agenda:

August 17, 2004

9 a.m. - 5 p.m.

Call to Order

Election of Officials

Adoption of Agenda

Consideration of 115th Council Meeting Verbatim Minutes

Executive Director's Report

Presentations

NOAA/National Ocean Service (NOS) Biogeography Program—Mark Monaco

Trap Studies Update—Ron Hill

Limited Entry Project—Bob Trumble

Update on Socio-Economic Survey of PR and USVI Fishers—Manuel Valdes-Pizzini

Marine Protected Areas (MPAs)—Brock Bernstein

NOAA Fisheries Recreational Strategic Plan—Michael Kelly

East End Marine Park, St. Croix, USVI—Susan Curtis

Coral Reefs Studies Update—Jorge R. Garcia-Sais

Essential Fish Habitat (EFH) Update—Graciela Garcia-Moliner

Sustainable Fisheries Act (SFA) Document en Emergency Action—Grammanik Bank

5:15 p.m. - 6:15 p.m.

Administrative Committee Meeting

Advisory Panel (AP)/Scientific and Statistical Committee (SSC)/Habitat Advisory Panel (HAP) Membership

Budget: 2002, 2003, 2004-05

Pending Travel and Contracts

Other Business

August 18, 2004

9 a.m. - 5 p.m.

Continuation of Discussion on SFA Document and Emergency Action—Grammanik Bank

Enforcement Report

Puerto Rico

U.S. Virgin Islands

NOAA

U.S. Coast Guard

Administrative Committee Recommendations

August 17, 2004

Meetings Attended by Council Members and Staff

Other Business

Next Council Meeting

The meetings are open to the public, and will be conducted in English. Fishers and other interested persons are invited to attend and participate with oral or written statements regarding agenda issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. For more information or request for sign language interpretation and/other auxiliary aids, please contact Mr. Miguel A. Rolon, Executive Director, Caribbean Fishery Management Council (see FOR FURTHER INFORMATION CONTACT) at least 5 days prior to the meeting date.

Dated: July 29, 2004.
Alan D. Risenhoover,
Acting Director, Office of Sustainable Fisheries, National Marine Fisheries Service.

[FR Doc. E4-1719 Filed 8-2-04; 8:45 am]

BILLING CODE 6717-01-P